SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: September 1-30, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above:

Grandfathering Registration Under 18 CFR Part 806, Subpart E

1. City of Corning—Public Water Supply System, GF Certificate No. GF-202109183, City of Corning, Steuben County, N.Y.; Wells 1, 2, 3, and 9; Issue Date: September 3, 2021.

2. Pennsylvania—American Water Company—White Deer District, GF Certificate No. GF 202109184, White Deer and Buffalo Townships, Union County, Pa.; White Deer Creek and Spruce Run; Issue Date: September 3, 2021.

3. Valley Proteins, Inc.—Terre Hill Facility, GF Certificate No. GF-202109185, East Earl Township, Lancaster County, Pa.; Wells 1 and 2 and consumptive use; Issue Date: September 3, 2021.

4. Knouse Foods Cooperative, Inc.—Gardners Plant, GF Certificate No. GF-202109186, Tyrone Township, Adams County, Pa.; Wells 3, 5, 6, 8, and 10; Issue Date: September 17, 2021.

5. The Pennsylvania State University—Blue and White Golf Courses and Public Water Supply System, GF Certificate No. GF-202109187, Ferguson Township and State College Borough, Centre County, Pa.; Well UN-28A; Issue Date: September 30, 2021.

Dated: October 18, 2021.
Jason E. Oyler,
General Counsel and Secretary to the Commission.

[FR Doc. 2021-22973 Filed 10-20-21; 8:45 am]

BILLING CODE 7040-01-P